NUCLEAR REGULATORY COMMISSION

Extension of Public Comment Period: Louisiana Energy Services National Enrichment Facility

AGENCY: Nuclear Regulatory Commission (NRC).

ACTION: Extension of public comment period.

SUMMARY: The NRC is extending further the public comment period for the Draft Environmental Impact Statement (DEIS) for the Proposed National Enrichment Facility (NEF) in Lea County, New Mexico (NUREG-1790). The notice of availability of the DEIS appeared in the Federal Register on September 17, 2004 (69 FR 56104), with the public comment period to end on November 6, 2004. On November 9, 2004, the NRC extended the public comment period until December 18, 2004 (69 FR 64983).

On October 25, 2004, the NRC suspended public access to its Agencywide Documents Access and Management System (ADAMS) database accessible through the NRC's Web site and initiated an additional security review of publicly-available documents to ensure that potentially sensitive information is removed. This security review is ongoing and the exact date of its completion is not certain.

However, from October 25, 2004, until December 6, 2004, members of the public continued to have access to the DEIS through NRC's project-specific Web site (http://www.nrc.gov/materials/fuel-cycle-fac/lesfacility.html). Members of the public also had access to the Environmental Report (ER) submitted by Louisiana Energy Services (LES) for the NEF through the same Web site until November 28, 2004. The links to the DEIS and the ER were suspended on December 7, 2004, and on November 29, 2004, respectively, while the NRC staff conducted its security review of these documents.

By this notice, the public comment period on the DEIS is being extended further until January 7, 2005. This extension of the public comment period will allow members of the public an additional opportunity to obtain relevant documents in order to comment on the DEIS. The NRC staff will make available on its project-specific Web site redacted copies of the DEIS, the ER, and LES's responses to NRC staff requests for additional information related to the ER. Redacted versions of these documents are expected to be accessible beginning on December 23, 2004. Interested members of the public may obtain copies of additional publicly-available documents for review and/or copying by contacting the NRC Public Document Room. The NRC Public Document Room is located at NRC Headquarters in Rockville, MD, and can be contacted at 800-397-4209 or 301-415-4737 or pdr@nrc.gov.

Members of the public are invited and encouraged to submit comments to the Chief, Rules Review and Directives Branch, Mail Stop T6-D59, U.S. Nuclear Regulatory Commission, Washington, DC 20555-0001. Please note Docket No. 70-3103 when submitting comments. Written comments submitted by mail should be postmarked by January 7, 2005, to ensure consideration. Comments mailed after that date will be considered to the extent practical. Comments will also be accepted by e-mail to nrcrep@nrc.gov, or by facsimile to 301-415-5397, Attention: Anna Bradford.

FOR FURTHER INFORMATION CONTACT: For general or technical information associated with the license review of the National Enrichment Facility, please contact Timothy Johnson at (301) 415-7299. For general information on the NRC environmental review process, please contact either Anna Bradford at (301) 415-5228 or James Park at (301) 415-5835.

Dated at Rockville, MD, this 15th day of December 2004.
For the Nuclear Regulatory Commission.
B. Jennifer Davis,
Chief, Environmental and Low-Level Waste Section, Division of Waste Management and Environmental Protection, Office of Nuclear Material Safety and Safeguards.

[FR Doc. 04-27847 Filed 12-20-04; 8:45 am]

BILLING CODE 7590-01-P